DEPARTMENT OF TRANSPORTATION

Pipeline and Hazardous Materials Safety Administration

Office of Hazardous Materials Safety; Notice of Application for Special Permits

AGENCY: Pipeline and Hazardous Materials Safety Administration, DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 17, 2006.

ADDRESS COMMENTS TO: Record Center Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington DC or at http://dms.dot.gov.

This notice of receipt of applications for special permits is published in accordance with Part 107 of the Federal hazardous materials transportation law (49 U.S.C. 5117(b); 49 CFR 1.53(b)).

Issued in Washington, DC, on October 12, 2006.
Delmer F. Billings,
Director, Office of Hazardous Materials Safety, Special Permits & Approvals.

New Special Permit
Application No. | Docket No. | Applicant | Regulation(s) affected | Nature of special permit thereof
14405-N | PHMSA-26003 | True Drilling LLC Casper, NY | 49 CFR 173.5a | To authorize the transportation in commerce of certain Class 3 hazardous materials in a truck-mounted meter prover without draining to 10% capacity. (mode 1).
14406-N | PHMSA-26001 | Equa-Chlor Longview, WA | 49 CFR 172.203; 179.13; 173.31(c)(1) | To authorize the transportation in commerce of a DOT specification 105J600W tank car having a gross weight on rail of 286,000 pounds, for use in transportation of chlorine, Division 2.3, Posion-Inhalation Hazard/Zone B. (mode 2).
14407-N | PHMSA-25999 | ITW Section Decatur, AL | 49 CFR 173.304a | To authorize the manufacture, marking, sale and use of a non-DOT specification cylinder to be used for the transportation in commerce of certain Division 2,2 materials. (modes 1, 2, 3, 4).
14410-N |  | Voltaix, LLC North Branch, NJ | 49 CFR 180.209(a) | To authorize the transportation in commerce of DOT Specification 4BW cylinders that are in dedicated use for trimethylchlorosilane, dimethyldichlorosilane and trimethylsilane service and have been visually inspected instead of hydrostatically tested for periodic requalification. (modes 1. 2).
14411-N |  | OPW Fueling Components Cincinnati, OH | 49 CFR 173.150 | To authorize the transportation in commerce of gasoline nozzles (fueling components) containing the residue of gasoline. (modes 1, 2).

[FR Doc. 06-8749 Filed 10-17-06; 8:45 am]

BILLING CODE 4909-60-M